DEPARTMENT OF HEALTH AND HUMAN SERVICES

Office of the Secretary

[Document Identifier: OS-0990-0000] [60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection.

Title of Information Collection: Understanding Barriers and Successful Strategies for Faith-Based Organizations in Accessing Grants.

Form/OMB No.: 0990-

Use: The “Understanding Barriers and Successful Strategies for Faith-Based Organizations in Accessing Grants” study aims to complement internal Health and Human Services (HHS) efforts to provide equal access to federal discretionary grants for faith-based organizations by collecting information directly from such organizations on their experiences applying for federal grants.

Frequency: Single time.

Affected Public: Not-for-profit institutions.

Annual Number of Respondents: 290.

Total Annual Responses: 290.

Average Burden per Response: 35.3 minutes.

Total Annual Hours: 170.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received with 60 days, and directed to the OS Paperwork Clearance Officer at the following address: Department of Health and Human Services, Office of the Secretary, Assistant Secretary for Resources and Technology, Office of Resources Management, Attention: Sherrette Funn-Coleman (0990-NEW), Room 537-H, 200 Independence Avenue, SW., Washington, DC 20201.

Dated: February 15, 2007.
Alice Bettencourt,
Office of the Secretary, Paperwork Reduction Act Reports Clearance Officer.

[FR Doc. E7-3175 Filed 2-23-07; 8:45 am]

BILLING CODE 4154-07-P